INTERNATIONAL TRADE COMMISSION

[Investigation No. 337-TA-512]

In the Matter of Certain Light-Emitting Diodes and Products Containing Same; Notice of Issuance on Remand of a Limited Exclusion Order With Respect to Certain Patents

AGENCY: U.S. International Trade Commission.

ACTION: Notice.

SUMMARY: Notice is hereby given that the U.S. International Trade Commission has, on remand from the United States Court of Appeals for the Federal Circuit, determined to issue a limited exclusion order with respect to five patents in the above-referenced investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 10, 2004, based on a complaint filed by Osram GmbH and Osram Opto Semiconductors GmbH of Germany (collectively, “Osram”). The complaint alleged violations of section 337 of the Tariff Act of 1930 (19 U.S.C. 1337) in the importation into the United States, the sale for importation, and the sale within the United States after importation of certain light-emitting diodes and products containing the same due to infringement of various claims of United States Patent Nos. 6,066,861, 6,277,301, 6,613,247, 6,245,259, 6,592,780 (“the Particle Size Patents”), 6,576,930 (“the '930 patent”), 6,376,902, 6,469,321, 6,573,580 (“the Lead Frame Patents”), and 6,716,673 (“the `673 patent”).

The Commission found that respondent Dominant Semiconductors Sdn. Bhd. violated section 337 with respect to the Lead Frame Patents and the `673 patent, but not with regard to the Particle Size Patents and the `930 patent. The Commission issued a limited exclusion order directed to light emitting diodes that infringe the Lead Frame Patents and the `673 patent. On appeal by Osram, the Federal Circuit reversed the Commission's determination of no violation with regard to the Particle Size Patents and remanded the investigation to the Commission for further proceedings, i.e., remedy, the public interest, and bonding. Prior to the remand, the parties had briefed the issues of remedy, the public interest, and bonding.

Having examined the record of this investigation, including the submissions of the parties, the Commission has determined on remand (1) to issue a limited exclusion order with respect to the Particle Size Patents; (2) that the public interest factors set out in 19 U.S.C. 1337(d) do not preclude issuance of such an order; and (3) that the amount of the bond to be posted pursuant to 19 U.S.C. 1337(j) during the Presidential review period be set at 100 percent of the entered value of the subject articles. The Commission's order was delivered to the President on the day of its issuance. The Commission's prior remedial order issued in this investigation remains in effect.

The authority for the Commission's determination is contained in section 337 of the Tariff Act of 1930, as amended (19 U.S.C. 1337).

By order of the Commission.
Issued: March 28, 2008.
Marilyn R. Abbott,
Secretary to the Commission.

[FR Doc. E8-6805 Filed 4-1-08; 8:45 am]

BILLING CODE 7020-02-P